DEPARTMENT OF AGRICULTURE

Forest Service

Grand Mesa, Uncompahgre and Gunnison National Forest, Colorado, Kennicott Slough Reservoir Peat Removal Project

AGENCY: Forest Service, USDA.

ACTION: Notice of intent to prepare an environmental impact statement.

SUMMARY: The Surface Creek Ditch and Reservoir Company has asked to be allowed to remove all of the peat from Kennicott Slough Reservoir by mechanical means over the next five to ten years. This is in response to advice from the Colorado State Engineer's office that peat in the reservoir poses a serious risk to the integrity of the reservoir, and that failure of the dam could result in the loss of life and property down stream.

DATES: Comments concerning the scope of the analysis must be received by June 1, 2002. The draft environmental impact statement is expected August of 2002 and the final environmental impact statement is expected December of 2002.

ADDRESSES: Send written comments to Kennicott Slough Analysis, Grand Mesa, Uncompahgre and Gunnison National Forest, 2250 Hwy 50, Delta, Colorado 81416.

FOR FURTHER INFORMATION CONTACT: Jeff Burch, Environmental Coordinator, Grand Mesa, Uncompahgre and Gunnison National Forest, 2250 Hwy 50, Delta, Colorado 81416.

SUPPLEMENTARY INFORMATION: Kennicott Slough Reservoir capacity is approximately 1,034 acre-feet. The drainage basin area above the dam including the reservoir is about 283 acres. Before a dam was build at Kennicott Slough there existed a natural lake. Associated with this lake were extensive shallows which gradually filled in with peat deposits. These peat deposits are the accumulation of organic materials from wetland vegetation growth over long periods of time. They are thought to be as much as 10,000 years old in some parts of the reservoir. Given enough time they will completely fill shallow lakes and reservoirs. With the construction of the first dam at Kennicott in about 1900 to 1910, the water line of the bankfill pool expanded over existing peat and created more shallows conducive to the formation of peat and the “peat body” began to expand. With the construction of an even higher second dam in 1947 and 1948, fluctuating water levels caused additional detachment of peat from its original location, and peat producing vegetation and the peat body itself continued to expand.

The Forest Service estimates there to be approximately 317,000 cubic yards, or using a conversion of 50 to 70 pounds per cubic foot, 214,300 to 300,000 tons of peat proposed for removal from Kennicott Slough. Approximately 80% of the reservoir's surface area is occupied by either floating or submerged peat. As water levels fluctuate, and especially during spring snow/ice melt and runoff, pieces of peat detach from the main peat body and float freely. As water passes through the reservoir, these pieces of peat tend to migrate toward the outlet and spillway of the reservoir. Some pieces are small; others are large (as much as 40 feet across).

The Colorado State Division of Water Resources has advised that these floating pieces of peat pose a real threat to the safety of the dam. These detached pieces of peat have the potential of blocking either the outlet works or the spillway, causing overfilling of the reservoir, spillage and cutting of the earthen dam, and possible catastrophic failure. Kennicott is a Class I dam, which means that failure poses threat to human safety down stream. The nearest habitation is 3½ miles down stream and 2000 feet lower in elevation, with additional homes along the Kiser Creek channel about 6 miles downstream from the reservoir. The town of Cedaredge is some 12 to 15 miles below the reservoir on Surface Creek and could be affected by the sudden release of water from a dam failure. According to the reservoir company, this peat accumulation has been a problem for 50 or more years. At one point in time the reservoir was drained for a two-year period to allow for removal of the peat. The peat was to be removed, and sold, but the venture apparently proved unsuccessful from an economical approach.

More recently, the Surface Creek Ditch and Reservoir Company has been authorized each year to remove detached pieces of peat which pose the greatest threat, using mechanical means of removal. In fall, after the reservoir is drained and dried somewhat, a track-mounted backhoe, a front end loader, and dump truck operation remove identified pear. In 2000, approximately 200 tons were removed. This amounted to less than one tenth of one percent of the entire peat body at Kennicott. The same has been done in the fall of 2001, removing designated portions of the peat as part of routine reservoir maintenance. This annual practice of selective removal of peat does not address the broader and more long term problem.

Purpose and Need for Action

The purpose and need for action is dam safety. The detached pieces of peat directly threaten the safety of the dam with risk of blocking the spillway and outlet works intake. This poses a threat to the integrity of the dam.

Proposed Action

The proposed action is to remove the entire peat mass from Kennicott Slough Reservoir (approximately 30 acres) with heavy equipment (excavator, loader, dump truck) over a period of several years, during the months of August through October in order to prevent additional detachment of the pieces from the main peat mass and subsequent movement of the detached pieces into the reservoir spillway or outlet structure.

Possible Alternatives

Alternative 1: Under this alternative no additional peat removal would be authorized from Kennicott Slough Reservoir. This alternative is required by NEPA to be presented as a baseline to consider the environmental effects of action alternatives. In the event the action alternatives were found to be unacceptable, this alternative could be selected. However we are aware that this could (likely would over time) lead to expansion of the peat body, further detachment of peat and threat to the safety and function of the dam. This could lead to the requirement to remove the dam structure and abandon the reservoir.

Alternative 2: Under this alternative the current practice of identifying specific areas (typically detached, semi-detached or those with extensive “fractures”) of peat for removal on an annual basis would continue. Only detached pieces could be removed as operations and maintenance (O&M). There would be no systematic removal of the larger peat body. Operations would take place in the fall and would be below the high water line for the reservoir to prevent surface disturbance outside the footprint of the bank-full reservoir.

Alternative 3: This is the proposed action, and will not be repeated in detail here. See above.

Alternative 4: This alternative compresses the time within which the proposed peat removal would take place. Instead of extending the removal operation over several years, the company would be required to not fill the reservoir until all peat was removed. This would likely still take two to three years. The files on Kennicott have reference to one other occasion when this was attempted but not accomplished due to the cost involved. This would compress all effects into one short time period and would immediately and completely address the dam safety issue.

Alternative 5: Under this alternative, an engineering solution would be employed to armor or block the outlet works and the spillway against the deposits of loose peat. This alternative addresses a way to leave most of the peat in place and still maintain the dam in a safe condition as required by the State. In general a strong marine netting would be installed across the reservoir using concrete caisson piles to support the net panels. Prior to installation, peat would have to be removed between the netting location and the high water line toward the direction of the outlet works. The reservoir would be drained and left to dry out to the extent possible in one season to allow collection of the peat, drilling of the caissons, and installation of the net panels. The location of the netting would be about 25 feet from the outlet pipe and about 100 feet from the edge of the dam crest. The netting would have to be about 40 feet high in the deepest section and 1200 feet long.

Alternative 6: Under this alternative the existing peat which now represents a risk of detachment would be trimmed over the next 2 years. The edge of the peat would then be anchored using mechanical means. The remainder, 80 to 90%, of the peat/wetland/fen would be left in tact.

Responsible Official

The responsible official is Robert L. Storch, Forest Supervisor, 2250 Hwy. 50, Delta, Colorado 81416.

Nature of Decision To Be Made: The decision to be made is whether or not to allow the entire peat body, or some portion of it, to be removed, and on what schedule; and what mitigation measures or operating restrictions (these may include timing, methods, and other measures to prevent environmental harm or unacceptable conflict in the use of the National Forest).

Scoping Process: Initial scoping was conducted for this proposal during August and early September of 2000. Letters inviting comments on the proposal were sent to parties known to be interested. A news release was issued and published in the Grand Junction Daily Sentinel. Also, a legal notice was run in that same newspaper (see project record). Seven letters were received in response, and a number of phone conversations were documented. From the response to scoping, as well as from correspondence with the Surface Creek Ditch Company, and the State of Colorado Division of Water Resources, over a number of years dealing with the peat problem at Kennicott, an initial set of issues were identified. The agency ID Team met and discussed the project and identified additional issues to be addressed. This list of preliminary issues will be supplemented following comment in response to this NOI.

Preliminary Issues: The following issues have been identified as preliminary issues to be carried through the analysis: effects on the wetland/fen (including Threatened Endangered or Sensitive species of plants), dam safety, effects on water quality and water quantity, effects on aquatic and terrestrial wildlife (including Threatened, Endangered or Sensitive species), effects on the recreation setting and use of the area, effects on potential paleontological resources, road use/maintenance and access to Kennicott Slough Reservoir, and economics/cost of project.

Permits or Licenses Required: Activities regarding management of this reservoir are governed in part by a special use authorizations held by the Surface Creek Ditch and Reservoir Company, and administered by the U.S. Forest Service. There are no additional permits or licenses required.

Comment Requested

This notice of intent initiates the scoping proces which guides the development of the environment impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1090.15, Section 21)
Dated: April 23, 2002.
Robert L. Storch,
Forest Supervisor.

[FR Doc. 02-11214 Filed 5-6-02; 8:45 am]

BILLING CODE 3410-11-M